Proclamation 10380 of April 29, 2022

National Mental Health Awareness Month, 2022

By the President of the United States of America

A Proclamation

Each May we raise awareness about the importance of mental health and its impact on the well-being of all Americans, including children, adults, families, and communities across our Nation. We also give thanks to the dedicated mental health providers whose service and support improve the lives of so many Americans. We stand in solidarity with those who are experiencing mental health conditions, renewing our commitment to providing them with the support they need and deserve.

Even before the pandemic, millions of Americans were experiencing stress, trauma, anxiety, and heightened levels of depression. The COVID-19 pandemic exacerbated those conditions, creating an unprecedented mental health crisis across our country. Communities of color, frontline workers, health care workers, and individuals with eating disorders have been disproportionately impacted, and the rate of depression across the country has more than tripled compared to rates in 2019.

Mental health challenges among our youth have also been particularly acute due to disruptions in routines, increased social isolation, and learning loss. Research has shown that social media plays a central role in increasing mental health challenges among young people—especially young women. Emergency department visits for attempted suicide among girls in 2021 increased by more than 50 percent compared to 2020. American Indians, Alaska Natives, Black youth, and LGBTQI+ youth also face a disproportionate risk of suicide.

Despite these disturbing trends, less than half of Americans struggling with mental illness receive the treatment they need—even fewer within Black and Brown communities. A variety of factors contribute to this problem. For example, too many communities lack sufficient numbers of mental health providers. Even where there are enough mental health providers, our fragmentated system makes it difficult for people to access them. Tragically, too, many Americans feel ashamed to reach out for help, or are stigmatized for seeking care.

My Administration is committed to transforming mental health care for all Americans. The American Rescue Plan laid the groundwork for this effort, investing nearly $5.5 billion nationwide to strengthen mental health and substance use care. It also invested billions of dollars in our Nation’s schools, including mental health treatment for students and staff.

But far more needs to be done. That is why in this year’s State of the Union Address, I outlined my vision for bolder investments to address our national mental health crisis. My strategy includes actions that will broaden the pipeline of behavioral health professionals in areas of greatest need, integrate mental health and substance use treatment into primary care, and expand access through more virtual care options.

In addition, last year the Surgeon General released an Advisory on Protecting Youth Mental Health that underscored the growing harms of digital technologies—especially social media—on the mental health of our youth. It is time to strengthen privacy protections, ban targeted advertising to children, and demand that technology companies stop collecting the personal data of our children. We must also continue researching the impact of social media on the mental health of our children, expand services in school to promote their well-being, and set them up for success so they can thrive as adults.

As my Administration works to expand suicide prevention and strengthen crisis care infrastructure within our communities, those who need immediate assistance can call the National Suicide Prevention Lifeline at 1-800-273-TALK—which will transition to a simple three-digit number, 988, in July.

Each of us has an important role to play in supporting our fellow Americans who are living with mental health conditions. Learn the warning signs of emotional distress and suicide. Engage affected loved ones in supportive dialogue. Fight the prejudice and negative attitudes that discourages those in need from seeking mental health support. Above all, let us collectively ensure that all children and adults experiencing mental health challenges are treated with the compassion, respect, and understanding they deserve.

NOW, THEREFORE, I, JOSEPH R. BIDEN JR., President of the United States of America, by virtue of the authority vested in me by the Constitution and the laws of the United States, do hereby proclaim May 2022 as National Mental Health Awareness Month. I call upon citizens, government agencies, private businesses, non-profit organizations, and other groups to join in activities and take action to strengthen the mental health of our communities and our Nation.

IN WITNESS WHEREOF, I have hereunto set my hand this twenty-ninth day of April, in the year of our Lord two thousand twenty-two, and of the Independence of the United States of America the two hundred and forty-sixth.

[FR Doc. 2022-09760

Filed 5-4-22; 8:45 am]

Billing code 3395-F2-P